DEPARTMENT OF ENERGY

Federal Energy Regulatory Commission

Combined Notice of Filings #1

Take notice that the Commission received the following electric corporate filings:

Docket Numbers: EC13-140-000.

Applicants: American Electric Power Service Corporation, Public Service Company of Oklahoma.

Description: Application of American Electric Power Service Corporation, on behalf of PSC of Oklahoma, under Section 203 of the Federal Power Act to acquire interconnection facilities and request for expedited consideration and certain waivers.

Filed Date: 8/27/13.

Accession Number: 20130827-5237.

Comments Due: 5 p.m. ET 9/17/13.

Take notice that the Commission received the following electric rate filings:

Docket Numbers: ER13-1355-001.

Applicants: Southern California Edison Company.

Description: Change in Status of Southern California Edison Company.

Filed Date: 8/28/13.

Accession Number: 20130828-5021.

Comments Due: 5 p.m. ET 9/18/13.

Docket Numbers: ER13-2073-000.

Applicants: Source Power & Gas LLC.

Description: Supplemental Information of Source Power & Gas LLC.

Filed Date: 8/27/13.

Accession Number: 20130827-5239.

Comments Due: 5 p.m. ET 9/17/13.

Docket Numbers: ER13-2259-000.

Applicants: Southwest Power Pool, Inc.

Description: 1893R2 Westar Energy, Inc. NITSA and NOA to be effective 8/1/2013.

Filed Date: 8/27/13.

Accession Number: 20130827-5177.

Comments Due: 5 p.m. ET 9/17/13.

Docket Numbers: ER13-2260-000.

Applicants: ABC Energy, LLC.

Description: Baseline new to be effective 8/28/2013.

Filed Date: 8/27/13.

Accession Number: 20130827-5178.

Comments Due: 5 p.m. ET 9/17/13.

Docket Numbers: ER13-2261-000.

Applicants: Southwest Power Pool, Inc.

Description: 1894R2 Westar Energy, Inc. NITSA and NOA to be effective 8/1/2013.

Filed Date: 8/27/13.

Accession Number: 20130827-5189.

Comments Due: 5 p.m. ET 9/17/13.

Docket Numbers: ER13-2262-000.

Applicants: Southwest Power Pool, Inc.

Description: 1896R2 Westar Energy, Inc. NITSA and NOA to be effective 8/1/2013.

Filed Date: 8/27/13.

Accession Number: 20130827-5192.

Comments Due: 5 p.m. ET 9/17/13.

Docket Numbers: ER13-2263-000.

Applicants: ITC Midwest LLC.

Description: Concurrence with IPL Amended Exhibits and Attachments to O&T to be effective 10/22/2013.

Filed Date: 8/27/13.

Accession Number: 20130827-5196.

Comments Due: 5 p.m. ET 9/17/13.

Docket Numbers: ER13-2264-000.

Applicants: Southwest Power Pool, Inc.

Description: 1895R2 Westar Energy, Inc. NITSA and NOA to be effective 8/1/2013.

Filed Date: 8/27/13.

Accession Number: 20130827-5203.

Comments Due: 5 p.m. ET 9/17/13.

Docket Numbers: ER13-2265-000.

Applicants: Southern California Edison Company.

Description: Eldorado-Moenkopi 500 kV Transmission Line Interconnection Agmt with APS to be effective 12/31/9998.

Filed Date: 8/28/13.

Accession Number: 20130828-5001.

Comments Due: 5 p.m. ET 9/18/13.

Docket Numbers: ER13-2266-000.

Applicants: ISO New England Inc.

Description: ISO New England Inc. Winter Reliability Bid Results.

Filed Date: 8/26/13.

Accession Number: 20130826-5276.

Comments Due: 5 p.m. ET 9/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2013.
Nathaniel J. Davis, Sr.,
Deputy Secretary.

[FR Doc. 2013-21732 Filed 9-5-13; 8:45 am]

BILLING CODE 6717-01-P